DEPARTMENT OF EDUCATION

Notice of Proposed Information Collection Requests

AGENCY: Department of Education.

ACTION: Notice of proposed information collection requests.

SUMMARY: The Acting Leader, Regulatory Information Management, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by January 30, 2004. A regular clearance process is also beginning. Interested persons are invited to submit comments on or before April 5, 2004.

ADDRESSES: Written comments regarding the emergency review should be addressed to the Office of Information and Regulatory Affairs, Attention: Melanie Kadlic, Desk Officer: Department of Education, Office of Management and Budget; 725 17th Street, NW., Room 10235, New Executive Office Building, Washington, DC 20503 or should be electronically mailed to the Internet address Melanie_Kadlic@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: January 28, 2004.
Angela C Arrington,
Leader, Regulatory Information Management, Office of the Chief Information Officer.

Office of Special Education and Rehabilitative Services

Type of Review: Reinstatement, with change, of a previously approved collection for which approval has expired

Title: Part C of the Individuals with Disabilities Education Act Annual Performance Report

Abstract: States are required to submit a performance report to the Secretary under section 80.40 of the Education Department General Administrative Regulations. The State Interagency Coordinating Committee is required under section 641 of Part C of the IDEA to submit an annual report to the Secretary and the State's Governor on the status of the early intervention program for infants and toddlers with disabilities and their families. This collection serves both of these functions. OSEP is implementing an integrated, four-part accountability strategy: (1) Verifying the effectiveness and accuracy of States' monitoring, assessment, and data collection systems; (2) attending to States at high risk for compliance, financial, and/or management failure; (3) supporting States in assessing their performance and compliance, and in planning, implementing, and evaluating improvement strategies; and (4) focusing OSEPs' intervention on States with low ranking performance on critical performance indicators. Component 3 of OSEPs' accountability strategy is implemented through this Annual Performance Report. Reporting requirements for States' Self-Assessments, Improvement Plans, and Annual Performance Reports are being combined in this Part C Annual Performance Report.

Additional Information: We are also proposing that the Part C Performance Report shall be submitted annually for the purpose of updating the State's self-assessing and improvement planning, including reporting on the impact of the State's improvement activities on performance and compliance. The Secretary is proposing that the Annual Performance Report, convering grant year July 1, 2002 through June 30, 2003, will be submitted no later than March 31, 2004.

Frequency: Annually

Affected Public:

State, local, or tribal gov't, SEAs or LEAs (primary)

Federal Government

Reporting and Recordkeeping Hour Burden:

Responses: 56

Burden Hours: 1,710

Requests for copies of the proposed information collection request may be accessed from http://edicsweb.ed.gov, by selecting the “Browse Pending Collections” link and by clicking on link number 2445. When you access the information collection, click on “Download Attachments” to view. Written requests for information should be addressed to Vivian Reese, Department of Education, 400 Maryland Avenue, SW., Room 4050, Regional Office Building 3, Washington, DC 20202-4651 or to the e-mail address vivan.reese@ed.gov. Requests may also be electronically mailed to the Internet address OCIO_RIMG@ed.gov or faxed to 202-708-9346. Please specify the complete title of the information collection when making your request.

Comments regarding burden and/or the collection activity requirements, contact Shelia Carey at her e-mail address Shelia Carey @ed.gov. Individuals who use a telecommunications device for the deaf (TDD) may call the Federal Information Relay Service (FIRS) at 1-800-877-8339.

[FR Doc. 04-2095 Filed 2-2-04; 8:45 am]

BILLING CODE 4000-01-P